DEPARTMENT OF THE INTERIOR

Bureau of Ocean Energy Management

[Docket No. BOEM-2023-062]

Notice of Intent To Prepare an Environmental Assessment for Additional Site Assessment Activities on Beacon Wind, LLC's Renewable Energy Lease OCS-A 0520

AGENCY: Bureau of Ocean Energy Management, Interior.

ACTION: Notice of intent; request for comments.

SUMMARY: The Bureau of Ocean Energy Management (BOEM) intends to prepare an environmental assessment (EA) to analyze the reasonably foreseeable impacts from additional site assessment activities in Lease Area OCS-A 0520 offshore Massachusetts. Beacon Wind, LLC, (Beacon Wind), the leaseholder, requests to conduct additional site assessment activities in the lease area that were not analyzed in the initial EA. Those activities comprise temporarily installing and subsequently removing representative components of offshore wind turbine and substation foundations using a single suction bucket at locations where turbines and substations may be installed. BOEM is seeking public input regarding important environmental issues and the identification of reasonable alternatives that should be considered in the EA. This EA is limited to site assessment activities and will be completed consistent with the National Environmental Policy Act (NEPA) and implementing regulations of the Department of the Interior and the Council on Environmental Quality (CEQ). BOEM will assess the impacts of constructing and operating any wind energy project proposed by Beacon Wind in Lease Area OCS-A 0520 in an environmental impact statement before deciding whether to approve that proposed project.

DATES: BOEM must receive your comments no later than December 7, 2023.

ADDRESSES: You may submit comments by either of the following methods:

• Through the regulations.gov web portal: Navigate to https://www.regulations.gov and search for Docket No. BOEM-2023-062 to submit public comments and view supporting and related materials available for this notice. Click on the “Comment” button below the document link. Enter your information and comment, then click “Submit Comment;” or

• By U.S. Postal Service or other delivery service: Send your comments and information to the following address: Bureau of Ocean Energy Management, Office of Renewable Energy Programs, 45600 Woodland Road, Mail Stop VAM-OREP, Sterling, VA 20166.

For additional information about submitting your comments, please see the discussion under the heading “Public Participation” in the SUPPLEMENTARY INFORMATION section of this notice.

FOR FURTHER INFORMATION CONTACT: Jessica Stromberg, BOEM, Environment Branch for Renewable Energy, 45600 Woodland Road, Mail Stop VAM-OREP, Sterling, VA 20166, (703) 787-1722 or jessica.stromberg@boem.gov.

SUPPLEMENTARY INFORMATION: Background: On December 8, 2020, Beacon Wind submitted a site assessment plan (SAP) to install and operate one floating light detection and ranging buoy, two current meter moorings, and two meteorological and oceanographic (metocean) buoys. Beacon Wind updated this SAP on June 28, 2021, and BOEM approved it on September 24, 2021.

On June 3, 2014, BOEM issued a Finding of No Significant Impact (FONSI) based on a comprehensive revised Environmental Assessment titled “Commercial Wind Lease Issuance and Site Assessment Activities on the Atlantic Outer Continental Shelf Offshore Massachusetts (2014 EA).” ¹ The 2014 EA included analysis of leasing and site assessment impacts in Lease Area OCS-A 0520. However, the suction bucket technique was not included in the analyzed site assessment activities.

¹ https://www.boem.gov/renewable-energy/revised-ma-ea-2014.

Proposed Action and Scope of Analysis

The proposed action is approval of Beacon Wind's amended SAP to conduct additional site assessment activities in the Lease Area. If approved, those activities will comprise foundation testing by installing and removing representative components for offshore wind turbine and substation foundations. This testing will include repeated use of a single suction bucket within the lease area at locations where wind turbines and substations may be installed. The equipment used for testing will be the same as described in Beacon Wind's construction and operations plan ² for suction bucket jacket foundations, which may be used to install offshore turbines and substations. The proposed additional testing will further assess the site conditions and gather information necessary for the engineering design of turbine and substation foundations well-suited for the lease area if BOEM approves the project.

² https://www.boem.gov/renewable-energy/state-activities/beacon-wind-farm-construction-and-operations-plan.

BOEM decided to prepare an EA for this proposed action regarding Beacon Wind's amended SAP to support and inform agency decision-making (40 CFR 1501.3). This notice starts the scoping process for the EA and solicits information regarding additional important environmental issues and alternatives that should be considered in the EA (43 CFR 46.305). Additionally, BOEM will use the scoping process to identify and eliminate from detailed analysis issues that are not significant or that have been analyzed by prior environmental reviews (40 CFR 1501.9(f)(1)).

BOEM will use responses to this notice and the EA public input process to satisfy the public involvement requirements of the National Historic Preservation Act (see 36 CFR 800.2(d)(3)). Consequently, BOEM is seeking information from the public on the identification and, if applicable, the assessment, of potential impacts to cultural resources and historic properties that might be impacted by the proposed site assessment activities and foundation testing. The EA analyses will also support compliance with other environmental laws and statutes (e.g., Coastal Zone Management Act, Endangered Species Act, Magnuson-Stevens Fishery Conservation and Management Act, and Marine Mammal Protection Act).

Cooperating Agencies: BOEM invites Tribal Nations and Federal, State, and local government agencies to consider becoming cooperating agencies in the preparation of this EA. CEQ regulations for implementing NEPA define cooperating agencies as those with “jurisdiction by law or special expertise with respect to any environmental impact involved in a proposal (or a reasonable alternative)” (40 CFR 1508.1(e)). Potential cooperating agencies should consider their authority and capacity to assume the responsibilities of a cooperating agency.

Upon request, BOEM will provide potential cooperating agencies with a draft memorandum of agreement that includes a schedule with critical action dates and milestones, mutual responsibilities, designated points of contact, and expectations for handling pre-decisional information. Agencies should also consider the ”Factors for Determining Whether to Invite, Decline or End Cooperating Agency Status” in CEQ's memo, “Cooperating Agencies in Implementing the Procedural Requirements of the [NEPA],” dated January 30, 2002. A copy of this document is available at: https://www.energy.gov/sites/prod/files/nepapub/nepa_documents/RedDont/G-CEQ-CoopAgenciesImplem.pdf.

As the lead agency, BOEM will not provide financial assistance to cooperating agencies. Even if an organization is not a cooperating agency, opportunities will exist to provide information and comments to BOEM during the normal public input phases of the NEPA process.

Public Participation

A. Comments

Tribal Nations, Federal and State agencies, local governments, and other interested parties are requested to comment on important issues to be considered in the EA. For information on how to submit comments and deadline, see the DATES and ADDRESSES sections above.

B. Privileged and Confidential Information

BOEM will protect privileged and confidential information submitted in comments when required by the Freedom of Information Act (FOIA). Exemption 4 of FOIA applies to trade secrets and commercial and financial information that is privileged or confidential. If you wish to protect the confidentiality of such information, clearly label it “Contains Confidential Information” and request that BOEM treat it as confidential. BOEM will not disclose such information if BOEM determines under 30 CFR 585.114(b) that it qualifies for a FOIA exemption. Consider submitting such information as a separate attachment.

BOEM will not treat as confidential any aggregate summaries of such information or comments not containing such privileged or confidential information. Information that is not labeled as privileged or confidential may be regarded by BOEM as suitable for public release.

C. Personally Identifiable Information

BOEM does not consider anonymous comments. Please include your name and address as part of your comment. BOEM makes all comments, including names, addresses, and other personally identifiable information included in the comment, available for public review online. Individuals may request that BOEM withhold their names, addresses, or other personally identifiable information included in their comment from the public record; however, BOEM cannot guarantee that it will be able to do so because comment submissions are subject to FOIA. If your submission is requested under FOIA, your information will only be withheld if a determination is made that one of the FOIA exemptions to disclosure applies. Such a determination will be made in accordance with the Department's FOIA regulations and applicable law.

In order for BOEM to withhold from disclosure your personally identifiable information, you must identify any information contained in your comments that, if released, would constitute a clearly unwarranted invasion of your privacy. You also must briefly describe any possible harmful consequences of the disclosure of information, such as embarrassment, injury, or other harm. All submissions from organizations or businesses and from individuals identifying themselves as representatives or officials of organizations or businesses will be made available for public inspection in their entirety.

D. Section 304 of the National Historic Preservation Act (54 U.S.C. 307103(a))

After consultation with the Secretary of the Interior, BOEM is required to withhold the location, character, or ownership of historic resources if it determines that disclosure may, among other things, cause a significant invasion of privacy, risk harm to the historic resources, or impede the use of a traditional religious site by practitioners. Tribal entities and other parties providing information on historic resources should designate information that they wish to be held as confidential and provide the reasons why BOEM should do so.

Authority: NEPA (42 U.S.C. 4332); 40 CFR 1501.5; 43 CFR 46.305.

Karen Baker,
Chief, Office of Renewable Energy Programs, Bureau of Ocean Energy Management.

[FR Doc. 2023-24610 Filed 11-6-23; 8:45 am]

BILLING CODE 4340-98-P